OFFICE OF GOVERNMENT ETHICS

Study Under the Presidential Transition Act of 2000 on Improving the Financial Disclosure Process for Executive Branch Presidential Nominees; Opportunity for Comment

AGENCY: Office of Government Ethics (OGE).

ACTION: Notice.

SUMMARY: The Office of Government Ethics is conducting a study under the Presidential Transition Act of 2000 on improving the financial disclosure process for executive branch Presidential nominees. This notice indicates the pendency of OGE's study and provides the public and agencies an opportunity to comment.

DATES: Any comments should be received by January 29, 2001.

ADDRESSES: Send any comments to the Office of Government Ethics, Suite 500, 1201 New York Avenue, NW., Washington, DC 20005-3917, Attention: Ms. Jane S. Ley. Comments may also be sent electronically to OGE's Internet E-mail address at usoge@oge.gov. For E-mail messages, the subject line should include the following reference—“Comments Regarding Financial Disclosure Process Study.”

FOR FURTHER INFORMATION CONTACT: Jane S. Ley, Deputy Director for Government Relations and Special Projects, Office of Government Ethics, telephone: 202-208-8022; TDD: 202-208-8025; FAX: 202-208-8037.

SUPPLEMENTARY INFORMATION: The Office of Government Ethics is in the midst of a six-month study under section 3 of the Presidential Transition Act of 2000, Public Law 106-293 (October 12, 2000), on improving the financial disclosure process for executive branch Presidential nominees required to file reports under section 101(b) of the Ethics in Government Act of 1978 (5 U.S.C. appendix). Within six months of the date of enactment of the new law (that is, by April 12, 2001), OGE has to submit a report based on the study to the Committee on Governmental Affairs of the U.S. Senate and Committee on Government Reform of the U.S. House of Representatives.

Under the law, OGE's report will include recommendations and legislative proposals on streamlining, standardizing and coordinating the financial disclosure process and requirements for executive branch Presidential nominees as well as avoiding duplication and burden with respect to financial information disclosed to the White House, OGE, and the Senate. The report may also address other matters relevant to the process, as OGE deems appropriate. The law further provides that the recommendations and proposals cannot, if implemented, have the effect of lessening substantive compliance with any conflict of interest requirement. Presidential nominees subject to Senate confirmation are currently required to file detailed Public Financial Disclosure Reports (the Standard Form (SF) 278 for executive branch nominees) with their agencies and OGE, as well as certain financial and other information filed with the White House, on the national security position questionnaire (SF 86) processed by the Federal Bureau of Investigation, and on various questionnaires developed by the respective confirming Senate committees.

As part of its consideration of these important matters, OGE believes it would be both appropriate and helpful to give the public and agencies an opportunity to express their views. Interested persons may submit comments to OGE, to be received by January 29, 2001, regarding any specific part of the financial disclosure process study or just to give general views on the study in order to assist OGE.

Approved: December 21, 2000.
Amy L. Comstock,
Director, Office of Government Ethics.

[FR Doc. 00-33220 Filed 12-28-00; 8:45 am]

BILLING CODE 6345-01-U